DEPARTMENT OF ENERGY

Federal Energy Regulatory Commission

Combined Notice of Filings #1

Take notice that the Commission received the following electric corporate filings:

Docket Numbers: EC18-85-000.

Applicants: New England Power Company.

Description: Application for Authorization Under Section 203 of the Federal Power Act and Requests for CEII Treatment and Certain Waivers of New England Power Company.

Filed Date: 4/16/18.

Accession Number: 20180416-5244.

Comments Due: 5 p.m. ET 5/7/18.

Take notice that the Commission received the following electric rate filings:

Docket Numbers: ER14-1193-005.

Applicants: West Deptford Energy, LLC.

Description: Compliance filing: Refund Report—Informational Filing (Doc. No. EL16-100-000) to be effective N/A.

Filed Date: 4/17/18.

Accession Number: 20180417-5001.

Comments Due: 5 p.m. ET 5/8/18.

Docket Numbers: ER18-1314-001.

Applicants: PJM Interconnection, L.L.C.

Description: Tariff Amendment: Amendment to April 9 Filing to be effective 1/4/2019.

Filed Date: 4/16/18.

Accession Number: 20180416-5098.

Comments Due: 5 p.m. ET 5/7/18.

Docket Numbers: ER18-1378-000.

Applicants: ITC Great Plains, LLC.

Description: Expedited Petition of ITC Great Plains, LLC for Waiver of Tariff Provisions and Shortened Answer Period.

Filed Date: 4/16/18.

Accession Number: 20180416-5237.

Comments Due: 5 p.m. ET 4/26/18.

Docket Numbers: ER18-1379-000.

Applicants: PJM Interconnection, L.L.C., Delaware Municipal Electric Corporation, Inc.

Description: § 205(d) Rate Filing: Revised SA No. 2978—NITSA among PJM and Delaware Municipal Electric Corp. to be effective 4/1/2018.

Filed Date: 4/17/18.

Accession Number: 20180417-5018.

Comments Due: 5 p.m. ET 5/8/18.

Docket Numbers: ER18-1380-000.

Applicants: Midcontinent Independent System Operator, Inc., Hoosier Energy Rural Electric Cooperative.

Description: § 205(d) Rate Filing: 2018-04-17_Revisions to add Hoosier Energy to Ameren-PPI JPZA & Schs 7,8,9 to be effective 7/1/2018.

Filed Date: 4/17/18.

Accession Number: 20180417-5117.

Comments Due: 5 p.m. ET 5/8/18.

Docket Numbers: ER18-1381-000.

Applicants: Midcontinent Independent System Operator, Inc.

Description: § 205(d) Rate Filing: 2018-04-17_Revisions to add Hoosier Energy to Ameren-PPI JPZA & Schs 7,8,9 to be effective 7/1/2018.

Filed Date: 4/17/18.

Accession Number: 20180417-5126.

Comments Due: 5 p.m. ET 5/8/18.

Docket Numbers: ER18-1382-000.

Applicants: Southwest Power Pool, Inc.

Description: § 205(d) Rate Filing: 1630R8 The Empire District Electric Company NITSA and NOA to be effective 4/1/2018.

Filed Date: 4/17/18.

Accession Number: 20180417-5135.

Comments Due: 5 p.m. ET 5/8/18.

Docket Numbers: ER18-1383-000.

Applicants: PacifiCorp.

Description: § 205(d) Rate Filing: BPA Construction Agmt ? Conversion Ross-Lex-Swift Rev 1 to be effective 6/18/2018.

Filed Date: 4/17/18.

Accession Number: 20180417-5140.

Comments Due: 5 p.m. ET 5/8/18.

Docket Numbers: ER18-1384-000.

Applicants: Buchanan Generation, LLC.

Description: § 205(d) Rate Filing: Notice of Succession for Reactive Service Rate Schedule to be effective 3/1/2018.

Filed Date: 4/17/18.

Accession Number: 20180417-5153.

Comments Due: 5 p.m. ET 5/8/18.

Accession Number: 20180416-5091.

Comments Due: 5 p.m. ET 5/7/18.

Take notice that the Commission received the following qualifying facility filings:

Docket Numbers: QF17-1029-002; QF17-1030-001; QF17-1256-002; QF17-1257-002; QF17-1258-002; QF17-1337-001; QF17-1338-001; QF17-1357-001; QF17-1455-001; QF17-1532-001; QF17-1537-001; Q17-1538-001.

Applicants: IGS ORIX Solar I, LLC, IGS Solar I, LLC.

Description: Refund Report of IGS ORIX Solar I, LLC and IGS Solar I, LLC.

Filed Date: 4/17/18.

Accession Number: 20180417-5132.

Comments Due: 5 p.m. ET 5/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2018.
Nathaniel J. Davis, Sr.,
Deputy Secretary.

[FR Doc. 2018-08487 Filed 4-23-18; 8:45 am]

BILLING CODE 6717-01-P